ENVIRONMENTAL PROTECTION AGENCY

[FRL-9128-2]

Science Advisory Board Staff Office; Notification of a Public Meeting of the Science Advisory Board; Environmental Engineering Committee Augmented for the Evaluation and Comment on EPA's Proposed Research Approach for Studying the Potential Relationships Between Hydraulic Fracturing and Drinking Water Resources

AGENCY: Environmental Protection Agency (EPA).

ACTION: Notice.

SUMMARY: The Environmental Protection Agency (EPA or Agency) Science Advisory Board (SAB) Staff Office announces a public face-to-face meeting of the SAB Environmental Engineering Committee (EEC). The SAB EEC, augmented with other SAB members, will evaluate and comment on EPA's proposed approach to study the potential public health and environmental protection issues that may be associated with hydraulic fracturing.

DATES: The meeting will be held on April 7, 2010 from 8:30 a.m. to 5 p.m., and April 8, 2010 from 8 a.m. to 12 noon (Eastern Daylight Time).

ADDRESSES: The Committee meeting will be held at the St. Regis Hotel located at 923 16th Street Northwest, Washington, DC 20006.

FOR FURTHER INFORMATION CONTACT: Members of the public who wish to obtain additional information regarding this meeting may contact Mr. Edward Hanlon, Designated Federal Officer (DFO), EPA Science Advisory Board (1400F), U.S. Environmental Protection Agency, 1200 Pennsylvania Avenue, NW., Washington, DC 20460; telephone/voice mail: (202) 343-9946; fax (202) 233-0643; or via e-mail at hanlon.edward@epa.gov. General information about the EPA SAB, as well as any updates concerning the meeting announced in this notice, may be found on the SAB Web site at http://www.epa.gov/sab. Any inquiry regarding EPA's planned research approach to study the potential public health and environmental protection issues that may be associated with hydraulic fracturing should be directed to Teri Richardson, EPA Office of Research and Development (ORD), at richardson.teri@epa.gov or (513) 569-7949.

SUPPLEMENTARY INFORMATION: Background: Pursuant to the Federal Advisory Committee Act (FACA), 5 U.S.C., App. 2, notice is hereby given that the SAB EEC augmented with other SAB members will hold a public meeting to evaluate and comment on EPA's proposed approach to study the potential public health and environmental protection issues that may be associated with hydraulic fracturing performed for extraction of natural gas from geologic formations. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

In its Fiscal Year 2010 Appropriation Conference Committee Directive to EPA, the U.S. House of Representatives approved a provision that urges EPA to conduct analyses to assess the potential risks to drinking water posed by hydraulic fracturing of formations including coalbeds and shale for extraction of natural gas. Hydraulic fracturing (or hydrofracking) generates vertical and horizontal fractures in underground geologic formations to facilitate extraction of gas (or oil) from the subsurface. While each formation has unique characteristics and features, the general process involves drilling a vertical well, extending the well bore horizontally into the formation, removing water, injecting hydrofracking fluids and then extracting the natural gas along with separation and management of fluids. To meet the Congressional request, EPA's ORD has initiated a draft approach to gather existing data and information including a stakeholder input process; to catalog potential risks to drinking water supplies from hydraulic fracturing; to identify data gaps; and to develop research questions, research needs, and research products.

ORD is seeking evaluation and comment from the SAB regarding EPA's proposed approach. Accordingly, the SAB EEC augmented with other SAB members will hold a public meeting to evaluate and comment on ORD's planned research approach to study the potential public health and environmental protection issues that may be associated with hydraulic fracturing.

Availability of Meeting Materials: The agenda and EPA's ORD proposed research approach will be available on the SAB Web site at http://www.epa.gov/sab in advance of the meeting.

Interested members of the public may submit relevant written or oral information on the topic of this advisory activity for the SAB to consider during the advisory process.

Oral Statements: In general, individuals or groups requesting an oral presentation at this public meeting will be limited to five minutes per speaker, with no more than a total of one hour for all speakers. Interested parties should contact Edward Hanlon, DFO, in writing (preferably via e-mail), at the contact information noted above, by March 29, 2010 to be placed on the list of public speakers for the meeting. Written Statements: Written statements should be received in the SAB Staff Office by March 29, 2010 so that the information may be made available to the SAB EEC augmented with other SAB members for their consideration. Written statements should be supplied to the DFO in the following formats: one hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Edward Hanlon at the phone number or e-mail address noted above, preferably at least ten days prior to the meeting, to give EPA as much time as possible to process your request.

Dated: March 11, 2010.
Anthony F. Maciorowski,
Deputy Director, EPA Science Advisory Board Staff Office.

[FR Doc. 2010-5956 Filed 3-17-10; 8:45 am]

BILLING CODE 6560-50-P